DEPARTMENT OF TRANSPORTATION

Federal Aviation Administration

Conversion of Aircraft Records to an Electronic Record Based System

AGENCY: Federal Aviation Administration (FAA), DOT.

ACTION: Notice of conversion of aircraft records to an electronic record based system.

SUMMARY: The aircraft records at the Civil Aviation Registry's Aircraft Registration Branch, Oklahoma City, Oklahoma, have been maintained on updateable microfiche. Those records have been converted to an electronic record based system. Effective August 8, 2002, copies of aircraft records can be provided to requesters in either a paper format or a digital portable document format on a compact disc.

DATES: Effective August 8, 2002, those electronic records will become the official records for the Civil Aviation Registry's Aircraft Registration Branch.

FOR FURTHER INFORMATION CONTACT: Julie Stanford, Manager, Aircraft Registration Branch (AFS-750), Mike Monroney Aeronautical Center, Federal Aviation Administration, P.O. Box 25504, Oklahoma City, Oklahoma 73125. Telephone: (405) 954-3131.

SUPPLEMENTARY INFORMATION: Beginning in 1926, the records pertaining to United States registered aircraft were maintained in folders, identified by the registration number of the aircraft, which contained either the original documents, or certified copies of such documents, submitted for recordation.

In October 1978, following a comprehensive study, it was determined that the aircraft records would be replaced by an updateable microfiche system. It was further determined that effective May 1, 1981, the microfiche would become the official aircraft record.

The updateable microfiche and the equipment required to operate and maintain that system are no longer manufactured. The microfiche system used by the Civil Aviation Registry's Aircraft Registration Branch is no longer supportable. It was determined that the microfiche should be replaced with an electronic records based system. It was further determined that those electronic records would be the official aircraft records of the Civil Aviation Registry's Aircraft Registration Branch.

Effective August 8, 2002, any person requesting a copy of a record will be provided with their choice of either a paper or digital portable document format copy of the electronic record concerning that aircraft.

Issued in Oklahoma City, OK, on August 2, 2002.
Mark D. Lash,
Manager, Civil Aviation Registry.

[FR Doc. 02-21185 Filed 8-19-02; 8:45 am]

BILLING CODE 4910-13-M